DEPARTMENT OF JUSTICE

Notice of Filing of Environmental Bankruptcy Settlement in In Re American Western Refining, L.P. and Related Inability To Pay Settlement With Indian Refining I Ltd. Partnership and Indian Refining and Marketing I, Inc.

Notice is hereby given that a proposed settlement entered into by the United States on behalf of U.S. EPA and the Coast Guard, the State of Illinois on behalf of Illinois EPA, and American Western Refining, L.P. was filed on October 26, 2001 in In re American Western Refining, L.P., No. 96-01755 (Bankr. D. Del.) with the United States Bankruptcy Court for the District of Delaware. The proposed settlement is contained in section 6.5 of the Debtor's proposed Plan of Liquidation and would resolve certain claims of the United States and Illinois against the settling party under the Comprehensive Environmental Response Compensation and Liability Act, 42 U.S.C. 9601 et seq., section 311 of the Clean Water Act, 33 U.S.C. 1321, the Oil Pollution Act, 33 U.S.C. 2701 et seq. relating to the American Western Refinery Superfund Site in Lawrence County, Illinois. Notice is also hereby given that a proposed related administrative settlement has been entered into by the United States on behalf of U.S. EPA and the Coast Guard, the State of Illinois on behalf of the Illinois Environmental Protection Agency, Indian Refining I Limited Partnership, f/k/a Indian Refining Limited Partnership, and Indian Refining and Marketing I, Inc., ­f/k/a Indian refining and Marketing, Inc. In re Indian Refinery—Texaco Property (Indian Refining I Limited Partnership, et al.), U.S. EPA Region 5, Docket No. V-W-02-C-668. Under the settlements, debtor American Western Refining, L.P. shall pay the Coast Guard $861,865 as an Allowed Administrative Expense Claim and the debtor will place its refinery property in a liquidating trust and provide certain, funding and consideration that will facilitate cleanup of the facility.

The Department of Justice will receive comments relating to the United States' approval of the terms of proposed settlements for 30 days following the publication of this Notice. Comments should be addressed to the Assistant Attorney General of the Environment and Natural Resources Division, Department of Justice, P.O. Box 7611, Ben Franklin Station, Washington, DC 20044, and should refer to In re American Western Refinery Company, et al., D.J. Ref. No. 90-11-2-1307A. Copies of the proposed settlements may be examined at the Office of the United States Attorney for the District of Delaware, 1201 Market Street, Suite 1100, Wilmington, DE and the Region V Office of the United States Environmental Protection Agency, 77 West Jackson Street, Chicago, Illinois 60604. Copies of the proposed settlements may also be obtained by request addressed to the Department of Justice Consent Decree Library, P.O. Box 7611, Ben Franklin Station, Washington, DC 20044. In requesting a copy of the proposed settlements, please enclose a check in the amount of $2.75 for the settlement with debtor American Western Refinery, L.P. and $8.75 for the settlement with Indian Refining I Limited Partnership (25 cents per page for reproduction costs), payable to the Consent Decree Library.

Bruce S. Gelber,
Section Chief, Environmental Enforcement Section, Environment and Natural Resources Division.

[FR Doc. 02-1560 Filed 1-22-02; 8:45 am]

BILLING CODE 4410-15-M